DEPARTMENT OF THE INTERIOR

Fish and Wildlife Service

[FWS-R9-FHC-2009-N215; 94300-1122-0000-Z2]

Wind Turbine Guidelines Advisory Committee; Announcement of Public Teleconference and Webcast

AGENCY: Fish and Wildlife Service, Interior.

ACTION: Notice of public teleconference and Webcast.

SUMMARY: We, the U.S. Fish and Wildlife Service (Service), will host a Wind Turbine Guidelines Advisory Committee (Committee) meeting via Webcast and teleconference, on October 14, 2009. This meeting is open to the public but will be limited to 75 public participants. The meeting agenda will include a briefing and discussion of the current draft Recommendations to the Secretary of the Interior. The Service is hosting this meeting with less than 15 days' notice under exceptional circumstances. The Committee will terminate on October 26, 2009, unless it is renewed prior to that date. The Committee will therefore need this meeting to finalize its draft Recommendations in the case that the Committee is not renewed.

DATES: Meeting: The meeting will take place on October 14, 2009, from 11 a.m. to 3 p.m. Eastern Time.

Pre-meeting Public Registration: If you are a member of the public wishing to participate in the October 14, 2009, meeting, you must register online by October 13, 2009 (see “Meeting Participation Information” in SUPPLEMENTARY INFORMATION).

FOR FURTHER INFORMATION CONTACT: Rachel London, Division of Habitat and Resource Conservation, U.S. Fish and Wildlife Service, Department of the Interior, (703) 358-2161.

SUPPLEMENTARY INFORMATION:

Background

On October 24, 2007, the Secretary of the Interior (Secretary) established the Committee to provide advice and recommendations to the Secretary on developing effective measures to avoid or minimize impacts to wildlife and their habitats related to land-based wind energy facilities. The Committee is made up of 22 members representing the varied interests associated with wind energy development and its potential impacts to wildlife species and their habitats. All Committee meetings are open to the public.

Meeting Participation Information

This meeting is open to the public and is limited to 75 registrants. Members of the public planning to participate must register at http://www.fws.gov/habitatconservation/windpower/wind_turbine_advisory_committee.html by close of business, October 13, 2009. Registrants will be provided with instructions for participation via e-mail. We will give preference to registrants based on date and time of registration.

Dated: October 2, 2009.
Rachel London,
Alternate Designated Federal Officer, Wind Turbine Guidelines Advisory Committee.

[FR Doc. E9-24230 Filed 10-6-09; 8:45 am]

BILLING CODE 4310-55-P